DEPARTMENT OF TRANSPORTATION

Federal Aviation Administration

First Meeting, Special Committee 208, Aeronautical Mobile Satellite Services

AGENCY: Federal Aviation Administration (FAA), DOT.

ACTION: Notice of RTCA Special Committee 208 Meeting, Aeronautical Mobile Satellite Services.

SUMMARY: The FAA is issuing this notice to advise the public of a meeting of RTCA Special Committee 208, Aeronautical Mobile Satellite Services.

DATES: The meeting will be held January 24, 2006, from 9 a.m.-5 p.m.

ADDRESSES: The meeting will be held at The Arizona Golf Resort and Conference Center, 425 South Power Road, Mesa, Arizona 85206-5296, (telephone 480-832-3202 + 1-800-528-8282, fax + 1-480-981-0151), http://www.azgolfresort.com.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 208 meeting. The agenda will include:

• January 24:

• Opening Plenary Session (Welcome, Introduction, and Administrative Remarks).

• Review of Authorizing Document, RTCA Paper 217-05/PMC-420, November 8, 2005.

• Discussion of and action on Terms of Reference (TOR) item 6.A. By February 28, 2006, determine if recent changes in ARINC 741 and ARINC 781 require modification of DO-210D by means of a Change 3 to DO-210D.

• Discussion of and action on Terms of Reference item 6.B, if necessary.

○ If a Change 3 is recommended, proceed immediately to produce Change 3 to DO-210D with the intent to harmonize DO-210D and ARINC 741 to the appropriate level.

○ Review and approve Draft Change 3 for submission to FRAC Process.

○ If Change 3 is necessary, the FRAC resolution meeting is suggested in conjunction with the next AGCS meeting in the summer of 2006.

○ If Change 3 is not necessary, create and approve short report to PMC stating reasons why and informing PMC that the Terms of Reference are complete.

• Closing Plenary Session (Other Business, Establish Agenda, Date and Place for Next Meeting if necessary, Adjourn).

Attendance is open to the interested public but limited to space availability. with the approval of the chairmen, members of the public may present oral statements at the meeting. Persons wishing to present statements or obtain information should contact the person listed in the FOR FURTHER INFORMATION CONTACT section. Members of the public may present a written statement to the committee at any time.

Issued in Washington, DC, on January 6, 2006.
Natalie Ogletree,
FAA General Engineer, RTCA Advisory Committee.

[FR Doc. 06-344 Filed 1-12-06; 8:45 am]

BILLING CODE 4910-13-M